DEPARTMENT OF ENERGY

Federal Energy Regulatory Commission

Combined Notice of Filings

Take notice that the Commission has received the following Natural Gas Pipeline Rate and Refund Report filings:

Filings Instituting Proceedings.

Docket Numbers: RP13-716-000.

Applicants: Gulf South Pipeline Company, LP.

Description: Neg Rate Agmt Filing (Exelon 40469) to be effective 4/1/2013.

Filed Date: 3/27/13.

Accession Number: 20130327-5071.

Comments Due: 5 p.m. ET 4/8/13.

Docket Numbers: RP13-717-000.

Applicants: Gulf South Pipeline Company, LP.

Description: Neg Rate Agmt Filing (Florida 40097) to be effective 4/1/2013.

Filed Date: 3/27/13.

Accession Number: 20130327-5072.

Comments Due: 5 p.m. ET 4/8/13.

Docket Numbers: RP13-718-000.

Applicants: Gulf South Pipeline Company, LP.

Description: Amendment to Neg Rate Agmts (QEP 36601-14, 15 and 37657-28) to be effective 4/1/2013.

Filed Date: 3/27/13.

Accession Number: 20130327-5073.

Comments Due: 5 p.m. ET 4/8/13.

Docket Numbers: RP13-719-000.

Applicants: Gulf South Pipeline Company, LP.

Description: Neg Rate Cap Rel Agmt (ONEOK 34951 to BG 40671) to be effective 4/1/2013.

Filed Date: 3/27/13.

Accession Number: 20130327-5074.

Comments Due: 5 p.m. ET 4/8/13.

Docket Numbers: RP13-720-000.

Applicants: Natural Gas Pipeline Company of America.

Description: Negotiated Rate—NJR Energy to be effective 4/1/2013.

Filed Date: 3/27/13.

Accession Number: 20130327-5100.

Comments Due: 5 p.m. ET 4/8/13.

Docket Numbers: RP13-721-000.

Applicants: Alliance Pipeline L.P.

Description: April 1-30 2013 to be effective 4/1/2013.

Filed Date: 3/27/13.

Accession Number: 20130327-5140.

Comments Due: 5 p.m. ET 4/8/13.

Docket Numbers: RP13-722-000.

Applicants: Natural Gas Pipeline Company of America.

Description: Negotiated Rate—Macquarie LPS-RO to be effective 4/1/2013.

Filed Date: 3/27/13.

Accession Number: 20130327-5176.

Comments Due: 5 p.m. ET 4/8/13.

Docket Numbers: RP13-723-000.

Applicants: Transcontinental Gas Pipe Line Company.

Description: LSS and SS-2 Fuel Tracker Filing 2013 to be effective 4/1/2013.

Filed Date: 3/27/13.

Accession Number: 20130327-5198.

Comments Due: 5 p.m. ET 4/8/13.

Docket Numbers: RP13-724-000.

Applicants: Alliance Pipeline L.P.

Description: Petro-Canada name change to Suncor to be effective 3/27/2013.

Filed Date: 3/28/13.

Accession Number: 20130328-5001.

Comments Due: 5 p.m. ET 4/9/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated March 28, 2013.
Nathaniel J. Davis, Sr.
Deputy Secretary

[FR Doc. 2013-08053 Filed 4-5-13; 8:45 am]

BILLING CODE 6717-01-P